DEPARTMENT OF ENERGY

Agency Information Collection Extension

AGENCY: Department of Energy.

ACTION: Notice and request for comments.

SUMMARY: The Department of Energy (DOE), pursuant to the Paperwork Reduction Act of 1995, intends to extend for three years the information collection packages listed at the end of this notice. Comments are invited on: (a) Whether the extended information collections are necessary for the proper performance of the functions of the agency, including whether the information has practical utility; (b) the accuracy of the agency's estimate of the burden of the information collections, including the validity of the methodology and assumptions used; (c) ways to enhance the quality, utility, and clarity of the information to be collected; and (d) ways to minimize the burden of the information collections on respondents, including through the use of automated collection techniques or other forms of information technology.

Comments submitted in response to this notice will be summarized and included in the request for Office of Management and Budget review and approval of these information collections; they also will become a matter of public record.

DATES: Comments regarding these proposed information collections must be received on or before May 30, 2006. If you anticipate difficulty in submitting comments within that period, contact the person listed below as soon as possible.

ADDRESSES: Written comments may be sent to: Jeffrey Martus, IM-11/Germantown Building, U.S. Department of Energy, 1000 Independence Ave., SW., Washington, DC 20585-1290, or by fax at 301-903-9061 or by e-mail at Jeffrey.martus@hq.doe.gov.

FOR FURTHER INFORMATION CONTACT: Requests for additional information or copies of the information collection instrument and instructions should be directed to Jeffrey Martus at the address listed above in ADDRESSES.

SUPPLEMENTARY INFORMATION: The information collection packages listed in this notice for public comment include the following:

1. (1) OMB No.: 1910-1000. (2) Package Title: Personal Property. (3) Type of Review: Renewal. (4) Purpose: This information collection provides the Department with the information necessary for the management, control, reutilization, and disposal of government personal property. (5) Respondents: 111. (6) Estimated Number of Burden Hours: 1,880.

2. (1) OMB No.: 1910-5112. (2) Package Title: Chronic Beryllium Disease Prevention Program. (3) Type of Review: Renewal. (4) Purpose: This information is used by DOE and DOE contractor employers to manage chronic beryllium disease prevention programs, to provide information to employees, and to permit oversight of their programs by DOE management. (5) Respondents: 1, 703. (6) Estimated Burden Hours: 32,952.

3. (1) OMB No.: 1910-5103. (2) Package Title: Reporting and Recordkeeping Requirements for Safety Management System. (3) Type of Review: Renewal. (4) Purpose: This collection is required by the Department to ensure that the management and operating contractors are performing work safely at DOE facilities. (5) Respondents: 7. (6) Estimated Number of Burden Hours: 2,450.

Statutory Authority: Department of Energy Organization Act, Public Law 95-91.

Issued in Washington, DC, on March 21, 2006.
Jeffrey D. Martus,
Records Management Division, Office of the Chief Information Officer.

[FR Doc. E6-4491 Filed 3-27-06; 8:45 am]

BILLING CODE 6450-01-P